ENVIRONMENTAL PROTECTION AGENCY

[FRL-8766-9]

Notice of Proposed Administrative Settlement Pursuant to the Comprehensive Environmental Response, Compensation, and Liability Act, as Amended; Atlas Iron and Metal Site

AGENCY: Environmental Protection Agency (EPA).

ACTION: Notice, request for public comments.

SUMMARY: In accordance with Section 122(i) of the Comprehensive Environmental Response, Compensation, and Liability Act (“CERCLA”), as amended, 42 U.S.C. 9622(i), notice is hereby given of a proposed Administrative Agreement for Recovery of Past Response Costs (“Agreement,” Region 9 Docket No. 9-2009-04) pursuant to Section 122(h) of CERCLA concerning the Atlas Iron and Metal Site (the “Site”), located in Los Angeles, Los Angeles County, California. The settling parties are S&W Atlas Iron and Metal Co., Inc., and 10019 S. Alameda LLC (“Respondents”). Through the proposed Agreement, the Respondents will reimburse the United States $74,000 for response costs incurred at the Site. The Agreement provides Respondents with a covenant not to sue for response costs at the Site, and contribution protection. For thirty (30) days following the date of publication of this Notice, the Agency will receive written comments relating to the proposed Agreement. The Agency's response to any comments received will be available for public inspection at EPA's Region IX offices, located at 75 Hawthorne Street, San Francisco, California 94105.

DATES: Comments must be submitted on or before March 6, 2009.

ADDRESSES: The proposed Agreement may be obtained from Andrew Helmlinger, in the Office of Regional Counsel, telephone (415) 972-3904. Comments regarding the proposed Agreement should be addressed to Andrew Helmlinger at the U.S. Environmental Protection Agency (ORC-3), 75 Hawthorne Street, San Francisco, California 94105, and should reference the Atlas Iron and Metal Site Agreement, and Region IX Docket No. 9-2009-04.

FOR FURTHER INFORMATION CONTACT: Andrew Helmlinger, Office of Regional Counsel, (415) 972-3904, U.S. Environmental Protection Agency, Region 9, 75 Hawthorne Street, San Francisco, CA 94105.

Dated: January 6, 2009.
Keith A. Takata,
Director, Superfund Division.

[FR Doc. E9-2340 Filed 2-3-09; 8:45 am]

BILLING CODE 6560-50-P